DEPARTMENT OF AGRICULTURE

Agricultural Marketing Service

7 CFR Parts 959 and 980

[Docket No. AMS-SC-21-0003; SC21-959-2 PR]

Onions Grown in South Texas and Imported Onions; Termination of Marketing Order 959 and Change in Import Requirements

AGENCY: Agricultural Marketing Service, USDA.

ACTION: Proposed rule; Reopening of comment period.

SUMMARY: The Agricultural Marketing Service (AMS) is providing an additional thirty (30) days for public comments on a proposed rule that would terminate the Federal marketing order regulating the handling of onions grown in South Texas and the rules and regulations issued thereunder. A corresponding change would be made to the onion import regulation as required under section 8e of the Agricultural Marketing Agreement Act of 1937. Reopening the comment period gives interested persons an additional opportunity to comment on the proposed termination.

DATES: The comment period for the proposed rule published on August 5, 2021, at 86 FR 42748, is reopened. Comments must be received by December 8, 2021.

ADDRESSES: Interested persons are invited to submit written comments concerning this proposal. Comments must be submitted to the Docket Clerk electronically by Email: MarketingOrderComment@usda.gov or internet: http://www.regulations.gov. All comments should reference the document number and the date and page number of this issue of the Federal Register and can be viewed at: http://www.regulations.gov. All comments submitted in response to this proposal will be included in the record and will be made available to the public. Please be advised that the identity of the individuals or entities submitting the comments will be made public on the internet at the address provided above.

FOR FURTHER INFORMATION CONTACT: Abigail Campos, Marketing Specialist, or Christian D. Nissen, Regional Director, Southeast Marketing Field Office, Market Development Division, Specialty Crops Program, AMS, USDA; Telephone: (863) 324-3375, Fax: (863) 291-8614, or Email: Abigail.Campos@usda.gov or Christian.Nissen@usda.gov.

Small businesses may request additional information on this Notice by contacting Richard Lower, Market Development Division, Specialty Crops Program, AMS, USDA, 1400 Independence Avenue SW, STOP 0237, Washington, DC 20250-0237; Telephone: (202) 720-2491, or Email: Richard.Lower@usda.gov.

SUPPLEMENTARY INFORMATION: A proposed rule was published in the Federal Register on August 5, 2021 (86 FR 42748). The rulemaking proposed to terminate the Federal marketing order regulating the handling of onions grown in South Texas (Order) and the rules and regulations issued thereunder. Furthermore, Section 8e of the Agricultural Marketing Agreement Act of 1937 (Act) provides that when certain domestically produced commodities, including onions, are regulated under a Federal marketing order, imports of that commodity must meet the same or comparable grade, size, quality, and maturity requirements. Because this proposed rule would terminate regulations for domestically produced onions, a corresponding change to the import regulations would also be required.

The proposed rule is based on the results of a continuance referendum in which producers failed to support the continuation of the Order. USDA's analysis of comments will help determine whether termination of this program would be appropriate and whether the Order is favored by industry producers.

During the initial comment period, AMS received a request to extend the comment period for an additional 30 days to allow those affected by the rulemaking to weigh in on the proposed termination of the Order.

After reviewing the request, USDA is reopening the comment period for 30 days. This will provide interested persons more time to review the proposed rule, perform a more complete analysis, and prepare information in writing to support their comments. Accordingly, the period in which to file written comments is reopened until December 8, 2021.

Erin Morris,
Associate Administrator, Agricultural Marketing Service.

[FR Doc. 2021-24301 Filed 11-5-21; 8:45 am]

BILLING CODE P